DEPARTMENT OF EDUCATION

President's Commission on Excellence in Special Education; Notice of Meeting

AGENCY: President's Commission on Excellence in Special Education, Department of Education.

ACTION: Notice of public meeting.

SUMMARY: The Assistant Secretary announces a meeting of the President's Commission on Excellence in Special Education (Commission). This notice also describes the functions of the Commission. Notice of this meeting is required under section 10(a)(2) of the Federal Advisory Committee Act and is intended to notify the public of their opportunity to attend.

DATES: April 9-10, 2002.

Time: 9 a.m. to 5 p.m.

ADDRESSES: The meeting will be held at the Hyatt Regency Hotel, 50 Alambra Plaza, Coral Gables, Florida.

FOR FURTHER INFORMATION CONTACT: C. Todd Jones, Executive Director, or Troy R. Justesen, Deputy Executive Director, at (202) 208-1312. The fax number is (202) 208-1593 and e-mail address is troy.justesen@ed.gov or via the Commission's Web site at: http://www.ed.gov/inits/commissionsboards/whspecialeducation/site map.html.

SUPPLEMENTARY INFORMATION: The Commission is established under Executive Order 13227 dated October 2, 2001. The Commission's function is to collect information and study issues related to Federal, State, and local special education programs with the goal of recommending policies for improving the educational performance of students with disabilities. In furtherance of its duties, the Commission shall invite experts and members of the public to provide information and guidance. The Commission shall prepare and submit a report to the President outlining its findings and recommendations.

Individuals who will need accommodations for a disability in order to attend the meeting (i.e. interpreting services, assistive listening devices, materials in alternative format) should notify Troy R. Justesen, at (202) 219—0704, as soon as possible. Sign language interpreter services will be provided at all meetings. The meeting site will be accessible to individuals with mobility impairments, including those who use wheelchairs.

On Tuesday, April 9th, there will be an opportunity beginning at 7 a.m. for the public to register for a public comment period. The Commission will be addressed on options for parental involvement in special education. There will be question and answer periods for the commissioners and a guest speaker presentation. On Wednesday, April 10, the commissioners will continue discussion on the subject of perspectives of parents and educators serving children with disabilities, a case study of the importance of leadership at the school-level in serving children at-risk of academic failure, and a continuation of discussion on options for parental involvement in special education.

Records are kept of all Commission proceedings, and are available for public inspection at President's Commission on Excellence in Special Education, 80 F Street, NW., Suite 408, Washington, DC 20208 from the hours of 9 a.m. to 5 p.m. (EST). This notice will not meet the 15-day FACA requirement for announcing meetings in the Federal Register however a previous notice was printed indicating the date of the upcoming meeting. The notice gives the public more information about the agenda and actual location of the meeting that was not available at the first printing.

Electronic Access to This Document

You may view this document, as well as all other Department if Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Robert H. Pasternack,
Assistant Secretary for Special Education and Rehabilitative Service.

[FR Doc. 02-8114 Filed 4-3-02; 8:45 am]

BILLING CODE 4000-01-M